DEPARTMENT OF DEFENSE

Department of the Army; Corps of Engineers

Intent To Prepare a Draft Environmental Impact Statement for Improvements to the Sabine-Neches Ship Channel Near Beaumont and Port Arthur, Texas as Published in a Resolution of the Senate Committee on Environment and Public Works, dated June 5, 1997, 105th Congress, 2nd Session

AGENCY: Department of the Army, U.S. Army Corps of Engineers, DoD.

ACTION: Notice of intent.

SUMMARY: The proposed action to be addressed in the Draft Environmental Impact Statement (DEIS) is to evaluate several widening and deepening alternatives to improve a deep-draft navigation channel that connects harbor facilities in the Beaumont and Port Arthur area with the Gulf of Mexico. The study will focus on circulation and salinity changes associated with an improved channel and develop dredged material disposal options that will include an evaluation of beneficial uses of dredged material. The project is being maintained at its authorized depth of 40 feet and includes about 56 nautical miles of deep-draft channel. The Beaumont/Port Arthur area is located about 90 miles northeast of Houston, Texas. The local sponsor for the project is the Jefferson County Waterway and Navigation District.

FOR FURTHER INFORMATION CONTACT: Questions about the proposed action and DEIS can be answered by: Ms. Lizette Richardson, (409) 766-3123, Project Manager, Project Management Branch, or Ms. Janelle Stokes, (409) 766-3039, Environmental Lead, Environmental Section, Planning Branch, Planning Environmental and Regulatory Division, P.O. Box 1229, Galveston, Texas 77553-1229.

SUPPLEMENTARY INFORMATION: (1) Background. The study began in 1997 when Congress directed the Secretary of the Army to study the feasibility of modifying the channels serving the Ports of Beaumont, Port Arthur, and Orange, Texas in the interests of commercial navigation. A reconnaissance study evaluated a deepening and widening plan to establish a Federal Interest in the project. The study concluded that there was a Federal Interest in continuing studies in 1998. The feasibility study began in March 2000 and will determine the most cost-effective alternative for improving the channel while protecting the Nation's environment.

(2) a. Alternatives. The construction alternatives that will be evaluated in the feasibility phase are: (1) Deepening the channel to 45 ft from offshore to the Beaumont turning basin; (2) deepening the channel to 48 ft from offshore to the Beaumont turning basin ; (3) deepening the channel to 50 ft from offshore to the Beaumont turning basin ; (4) various combinations of selective widening and turning basins; 5) various combinations of selective widening and turning basins with each one of the above depths.

b. No Action. A “No Action” alternative will be evaluated and presented for comparison purposes in evaluating the various construction alternatives.

(3) Scoping. The scoping process will involve Federal, State and local agencies, and other interested persons and organizations. Scoping meetings are scheduled for May 28 and 29, 2002 in Lake Charles, Louisiana, and Beaumont, Texas. The time and place of these meetings will be announced in local newspapers and mailings. Issues to be discussed at these meetings include, but are not limited to, changes in salinity and circulation, changes in fresh and saltwater marshes, water and sediment quality, erosion along the channel, threatened and endangered species impacts, opportunities for ecosystem restoration, and the beneficial use of dredged material. Any person or organization wishing to provide information on issues or concerns should contact the Corps of Engineers at the above address.

4. Coordination. Further coordination with environmental agencies will be conducted under the National Environmental Policy Act, the Fish and Wildlife Coordination Act, the Endangered Species Act, the Clean Water Act, the Clean Air Act, the National Historic Preservation Act, the Magnuson-Stevens Fishery Conservation and Management Act (Essential Fish Habitat), and the Coastal Zone Management Act under the Texas Coastal Management Program and the Louisiana Coastal Resources Program. An Interagency Coordination Team (ICT) has been formed to provide guidance and counsel on matters relating to the evaluation of environmental impacts of this project. The ICT is composed of representatives from 4 Federal agencies, 7 regulatory agencies from the States of Texas and Louisiana, the local sponsor, and the U.S. Army Corps of Engineers.

5. DEIS Preparation. It is estimated that the DEIS will be available to the public for review and comment in January 2004.

Carolyn E. Murphy,
Chief, Environmental Section.

[FR Doc. 02-12647 Filed 5-20-02; 8:45 am]

BILLING CODE 3710-52-P